DEPARTMENT OF HOMELAND SECURITY

Coast Guard

33 CFR Part 165

[Docket No. USCG-2013-0676]

RIN 1625-AA00

Safety Zone; Motion Picture Production; Chicago, Illinois

AGENCY: Coast Guard, DHS.

ACTION: Notice of enforcement of regulation.

SUMMARY: The Coast Guard will enforce the temporary safety zone for motion picture filming in Calumet Harbor, Chicago, IL from 9 p.m. until 6 a.m., from September 15 through September 29, 2013. This action is necessary and intended to ensure safety of life on navigable waters during nighttime filming of a motion picture in Calumet Harbor. During the aforementioned period, the Coast Guard will enforce restrictions upon, and control movement of, vessels in a specified safety zone. During the enforcement period, no person or vessel may enter the safety zone without permission of the Captain of the Port, Lake Michigan.

DATES: The 33 CFR 165.T09-0676(a), Calumet Harbor, safety zone, will be enforced from 9 p.m. until 6 a.m., from September 15 through September 29, 2013.

FOR FURTHER INFORMATION CONTACT: If you have questions on this notice, call or email MST1 Joseph McCollum, Prevention Department, Coast Guard Sector Lake Michigan, Milwaukee, WI at (414) 747-7148, email Joseph.P.McCollum@uscg.mil.

SUPPLEMENTARY INFORMATION: This notice provides an updated enforcement schedule for the Calumet Harbor safety zone listed in 33 CFR 165.T09-0676 Safety Zone; Motion Picture Production; Chicago, IL (78 FR 20241, August 20, 2013). This updated schedule accommodates the anticipated nighttime filming of a motion picture in the Calumet Harbor safety zone. Specifically, this zone encompasses all waters of Lake Michigan, Calumet Harbor west of an imaginary line connecting 41°44′29.4″ N, 087°31′33.9″ W and 41°44′21″ N, 087°31′47.12″ W (NAD 83). This zone will be enforced from 9 p.m. until 6 a.m. during filming from September 15 through September 29, 2013. This notice does not impact or change the enforcement schedule published August 20, 2013, for the five safety zones in 33 CFR 165.T09-0676: from 6 a.m. to 9 p.m. on intermittent dates from August 20 through September 30, 2013.

All vessels must obtain permission from the Captain of the Port, Lake Michigan, or his on-scene representative to enter, move within, or exit the safety zone. Vessels and persons granted permission to enter the safety zone shall obey all lawful orders or directions of the Captain of the Port, Lake Michigan, or his designated representative.

This notice is issued under authority of 33 CFR 165.T09-0676 Safety Zone; Motion Picture Production; Chicago, IL and 5 U.S.C. 552(a). Because this notice has been written to accommodate late-night filming in the production of a motion picture, the Coast Guard anticipates that this zone will not be enforced for each night of September 15 until September 29, but only during those nights in which filming occurs. As such, in addition to this notice in the Federal Register, the Coast Guard will provide the maritime community with advance notification of this event via Broadcast Notice to Mariners or Local Notice to Mariners. The Captain of the Port, Lake Michigan, or his on-scene representative may be contacted via VHF Channel 16.

Dated: September 10, 2013.
M.W. Sibley,
Captain, U. S. Coast Guard, Captain of the Port, Lake Michigan.

[FR Doc. 2013-22762 Filed 9-18-13; 8:45 am]

BILLING CODE 9110-04-P